ENVIRONMENTAL PROTECTION AGENCY

40 CFR Ch. I

[EPA-HQ-OA-2012-0077; FRL-9744-8]

Fall 2012 Regulatory Agenda

AGENCY: Environmental Protection Agency.

ACTION: Semiannual regulatory flexibility agenda and semiannual regulatory agenda.

SUMMARY: The Environmental Protection Agency (EPA) publishes the semiannual regulatory agenda online (the e-Agenda) at http://www.reginfo.gov and at www.regulations.gov to update the public about: Regulations and major policies currently under development; reviews of existing regulations and major policies; and rules and major policy makings completed or canceled since the publication of the last agenda.

Definitions

“E-Agenda,” “online regulatory agenda,” and “semiannual regulatory agenda” all refer to the same comprehensive collection of information that, until 2007, was published in the Federal Register but now is only available through an online database.

“Regulatory Flexibility Agenda” refers to a document that contains information about regulations that may have a significant impact on a substantial number of small entities. We continue to publish it in the Federal Register because it is required by the Regulatory Flexibility Act of 1980.

“Unified Regulatory Agenda” refers to the collection of all agencies' agendas with an introduction prepared by the Regulatory Information Service Center.

“Regulatory Agenda Preamble” refers to the document you are reading now. It appears as part of the Regulatory Flexibility Agenda and introduces both the Regulatory Flexibility Agenda and the e-Agenda.

“Regulatory Development and Retrospective Review Tracker” refers to an online portal to EPA's priority rules and retrospective reviews of existing regulations. More information about the Regulatory Development and Retrospective Review Tracker appears in section H of this preamble.

FOR FURTHER INFORMATION CONTACT: If you have questions or comments about a particular action, please get in touch with the agency contact listed in each agenda entry. If you have general questions about the semiannual regulatory agenda, please contact: Caryn Muellerleile (muellerleile.caryn@epa.gov; 202-564-2855) or Amy Cole (cole.amy@epa.gov; 202-564-6535).

Table of Contents

A. Links to EPA's Regulatory Information

B. What key statutes and executive orders guide EPA's rule and policymaking process?

C. How can you be involved in EPA's rule and policymaking process?

D. What actions are included in the e-agenda and the regulatory agenda?

E. How is the e-agenda organized?

F. What information is in the Regulatory Flexibility Agenda and the e-Agenda?

G. How can you find out about rulemakings that start up after the regulatory agenda is signed?

H. What tools are available for mining regulatory agenda data and for finding more about EPA rules and policies?

I. Reviews of rules with significant impacts on a substantial number of small entities

J. What other special attention does EPA give to the impacts of rules on small businesses, small governments and small nonprofit organizations?

K. Thank You for Collaborating With Us

SUPPLEMENTARY INFORMATION:

A. Links to EPA's Regulatory Information

• Semiannual Regulatory Agenda: www.reginfo.gov and www.regulations.gov

• Semiannual Regulatory Flexibility Agenda: http://www.gpo.gov/fdsys/search/home.action

• Regulatory Development and Retrospective Review Tracker: www.epa.gov/regdarrt/

B. What key statutes and executive orders guide EPA's rule and policymaking process?

A number of environmental laws authorize EPA's actions, including but not limited to:

• Clean Air Act (CAA),

• Clean Water Act (CWA),

• Comprehensive Environmental Response, Compensation and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

Not only must EPA comply with environmental laws, but also administrative legal requirements that apply to the issuance of regulations, such as: The Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 12866, “Regulatory Planning and Review” (58 FR 51735, Oct. 4, 1993), as supplemented by Executive Order (EO) 13563, “Improving Regulation and Regulatory Review” (76 FR 3821, Jan. 21, 2011); 12898, “Federal Actions to Address Environmental Justice in Minority Populations and Low-income Populations” (59 FR 7629, Feb. 16, 1994); 13045, “Protection of Children from Environmental Health Risks and Safety Risks” (62 FR 19885, Apr. 23, 1997); 13132, “Federalism” (64 FR 43255, Aug. 10, 1999); 13175, “Consultation and Coordination with Indian Tribal Governments” (65 FR 67249, Nov. 9, 2000); 13211, “Actions Concerning Regulations That Significantly Affect Energy Supply, Distribution, or Use” (66 FR 28355, May 22, 2001).

In addition to meeting its mission goals and priorities as described above, EPA is reviewing its existing regulations under EO 13563. This EO provides for periodic retrospective review of existing significant regulations and is intended to determine whether any such regulations should be modified, streamlined, expanded, or repealed, so as to make the Agency's regulatory program more effective or less burdensome in achieving the regulatory objectives. More information about this review is described in EPA's Statement of Priorities in the Regulatory Plan.

C. How can you be involved in EPA's rule and policymaking process?

You can make your voice heard by getting in touch with the contact person provided in each agenda entry. EPA encourages you to participate as early in the process as possible. You may also participate by commenting on proposed rules published in the Federal Register (FR).

Instructions on how to submit your comments are provided in each Advanced Notice of Proposed Rulemaking (ANPRM) and Notice of Proposed Rulemaking (NPRM). To be most effective, comments should contain information and data that support your position, and you also should explain why EPA should incorporate your suggestion in the rule or nonregulatory action. You can be particularly helpful and persuasive if you provide examples to illustrate your concerns and offer specific alternatives.

EPA believes its actions will be more cost effective and protective if the development process includes stakeholders working with us to help identify the most practical and effective solutions to problems. Democracy gives real power to individual citizens, but with that power comes responsibility. EPA encourages you to become involved in its rule and policymaking process. For more information about public involvement in EPA activities, please visit www.epa.gov/open.

D. What actions are included in the e-Agenda and the Regulatory Flexibility Agenda?

EPA includes regulations and certain major policy documents in the e-Agenda. However, there is no legal significance to the omission of an item from the agenda, and EPA generally does not include the following categories of actions:

• Administrative actions such as delegations of authority, changes of address, or phone numbers;

• Under the CAA: Revisions to State implementation plans; equivalent methods for ambient air quality monitoring; deletions from the new source performance standards source categories list; delegations of authority to states; area designations for air quality planning purposes;

• Under FIFRA: Registration-related decisions, actions affecting the status of currently registered pesticides, and data call-ins;

• Under the Federal Food, Drug, and Cosmetic Act: Actions regarding pesticide tolerances and food additive regulations;

• Under RCRA: Authorization of State solid waste management plans; hazardous waste delisting petitions;

• Under the CWA: State Water Quality Standards; deletions from the section 307(a) list of toxic pollutants; suspensions of toxic testing requirements under the National Pollutant Discharge Elimination System (NPDES); delegations of NPDES authority to States;

• Under SDWA: Actions on State underground injection control programs;

• Under TSCA: New chemical-related decisions; actions implementing the TSCA Interagency Testing Committee decisions; actions affecting extensions for submitting test data.

The Regulatory Flexibility Agenda includes:

• Actions likely to have a significant economic impact on a substantial number of small entities.

E. How is the e-Agenda organized?

You can now choose how both the www.reginfo.gov and www.regulations.gov versions of the e-Agenda are organized. Current choices include: EPA subagency; stage of rulemaking, which is explained below; alphabetically by title; and by the Regulation Identifier Number (RIN), which is assigned sequentially when an action is added to the agenda.

Stages of rulemaking include:

1. Active—Actions may be in the Prerule, Proposed Rule, or Final Rule stage of the “Active” rules section. Prerule actions are generally intended to determine whether EPA should initiate rulemaking. They may include anything that influences or leads to rulemaking, such as Advance Notices of Proposed Rulemaking (ANPRMs), studies or analyses of the possible need for regulatory action, requests for public comment on the need for regulatory action, or important preregulatory policy proposals. Proposed Rules are EPA rulemaking actions that are within a year of proposal, or the publication of Notices of Proposed Rulemakings (NPRMs), in the Federal Register. Final Rules are those rules that will be issued as a final rule within a year.

2. Long-Term Actions—This section includes rulemakings for which the next scheduled regulatory action is after December 2013. We urge you to explore becoming involved even if an action is listed in the Long-Term category. By the time an action is listed in the Proposed Rules category you may have missed the opportunity to participate in certain public meetings or policy dialogues.

3. Completed Actions—This section contains actions that have been promulgated and published in the Federal Register since publication of the previous Semiannual Agenda. It also includes actions that EPA is no longer considering and has elected to “withdraw.”

F. What information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule, and Contact Person. Note that the electronic version of the Agenda (eAgenda) has more extensive information on each of these actions.

e-Agenda entries include:

Title: Titles for new entries (those that have not appeared in previous agendas) are preceded by a bullet (•) The notation “Section 610 Review” follows the title if we are reviewing the rule as part of our periodic review of existing rules under section 610 of the RFA (5 U.S.C. 610).

Priority: Entries are placed into one of five categories described below. OMB reviews all significant rules including both of the first two categories, “economically significant” and “other significant.”

a. Economically Significant: Under Executive Order 12866, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency;

2. Materially alter the budgetary impact of entitlements, grants, user fees, or loan programs, or the rights and obligations of recipients; or

3. Raise novel legal or policy issues arising out of legal mandates, the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations (e.g., certain State Implementation Plans, National Priority List updates, Significant New Use Rules, State Hazardous Waste Management Program actions, and Tolerance Exemptions). If an action that would normally be classified Routine and Frequent is reviewed by the Office of Management and Budget under EO 12866, then we would classify the action as either “Economically Significant” or “Other Significant.”

e. Informational/Administrative/Other: An action that is primarily informational or pertains to an action outside the scope of EO 12866.

Also, if a rule may be “Major” as defined in the Congressional Review Act (5 U.S.C. 801, et seq.) because it is likely to result in an annual effect on the economy of $100 million or more or meets other criteria specified in this law, it appears under the “Priority” heading with the statement “Major under 5 U.S.C. 801.”

Legal Authority: The sections of the United States Code (U.S.C.), Public Law (Pub. L.), Executive Order (EO), or common name of the law that authorizes the regulatory action.

CFR Citation: The sections of the Code of Federal Regulations that would be affected by the action.

Legal Deadline: An indication of whether the rule is subject to a statutory or judicial deadline, the date of that deadline, and whether the deadline pertains to a Notice of Proposed Rulemaking, a Final Action, or some other action.

Abstract: A brief description of the problem the action will address.

Timetable: The dates (and citations) that documents for this action were published in the Federal Register and, where possible, a projected date for the next step. Projected publication dates frequently change during the course of developing an action. The projections in the agenda are best estimates as of the date we submit the agenda for publication. For some entries, the timetable indicates that the date of the next action is “to be determined.”

Regulatory Flexibility Analysis Required: Indicates whether EPA has prepared or anticipates that it will be preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments, or small nonprofit organizations.

Government Levels Affected: Indicates whether the rule may have any effect on levels of Government and, if so, whether the Governments are State, local, tribal, or Federal.

Federalism Implications: Indicates whether the action is expected to have substantial direct effects on the States, on the relationship between the National Government and the States, or on the distribution of power and responsibilities among the various levels of Government.

Unfunded Mandates: Section 202 of UMRA generally requires an assessment of anticipated costs and benefits if a rule includes a mandate that may result in expenditures of more than $100 million in any one year by State, local, and tribal governments, in the aggregate, or by the private sector. If it is anticipated to exceed this $100 million threshold, we note it in this section.

Energy Impacts: Indicates whether the action is a significant energy action under EO 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address, if available, of a person who is knowledgeable about the regulation.

Additional Information: Other information about the action including docket information.

URLs: For some actions, the Internet addresses are included for reading copies of rulemaking documents, submitting comments on proposals, and getting more information about the rulemaking and the program of which it is a part. (Note: To submit comments on proposals, you can go to the associated electronic docket, which is housed at www.regulations.gov. Once there, follow the online instructions to access the docket in question and submit comments. A docket identification [ID] number will assist in the search for materials.)

RIN: The Regulation Identifier Number is used by OMB to identify and track rulemakings. The first four digits of the RIN identify the EPA office with lead responsibility for developing the action.

G. How can you find out about rulemakings that start up after the regulatory agenda is signed?

EPA posts monthly information of new rulemakings that the Agency's senior managers have decided to develop. This list is also distributed via email. You can find the current list, known as the Action Initiation List (AIL), at http://www.epa.gov/lawsregs/regulations/ail.html where you will also find information about how to get an email notification when a new list is posted. If you would like to regularly receive information about the rules newly approved for development, sign up for our monthly Action Initiation List by going to http://www.epa.gov/lawsregs/regulations/ail.html#notification and completing the steps listed there.

H. What tools are available for mining regulatory agenda data and for finding more about EPA rules and policies?

1. The http://www.reginfo.gov/Searchable Database

The Regulatory Information Service Center and Office of Information and Regulatory Affairs have a Federal regulatory dashboard that allows users to view the Regulatory Agenda database (http://www.reginfo.gov/public/do/eAgendaMain), which includes powerful search, display, and data transmission options. At that site you can:

a. See the preamble. At the URL listed above for the Unified Agenda and Regulatory Plan, find “Current Agenda Agency Preambles.” Environmental Protection Agency is listed alphabetically under “Other Executive Agencies.”

b. Get a complete list of EPA's entries in the current edition of the Agenda. Use the drop-down menu in the “Select Agency” box to find Environmental Protection Agency and “Submit.”

c. View the contents of all of EPA's entries in the current edition of the Agenda. Choose “Search” from the “Unified Agenda” selection in the toolbar at the top of the page. Within the “Search of Agenda/Regulatory Plan” screen, open “Advanced Search,” then “Continue.” Select “Environmental Protection Agency” and “Continue.” Select “Search,” then “View All RIN Data (Max 350).”

d. Get a listing of entries with specified characteristics. Follow the procedure described immediately above for viewing the contents of all entries, but on the screen entitled “Advanced Search—Select Additional Fields,” choose the characteristics you are seeking before “Search.” For example, if you wish to see a listing of all economically significant actions that may have a significant economic impact on a substantial number of small businesses, you would check “Economically Significant” under “Priority” and “Business” under “Regulatory Flexibility Analysis Required.”

e. Download the results of your searches in XML format.

2. Subject Matter EPA Web Sites

Some actions listed in the Agenda include a URL that provides additional information.

3. Public Dockets

When EPA publishes either an ANPRM or a NPRM in the Federal Register, the Agency typically establishes a docket to accumulate materials throughout the development process for that rulemaking. The docket serves as the repository for the collection of documents or information related to a particular Agency action or activity. EPA most commonly uses dockets for rulemaking actions, but dockets may also be used for RFA section 610 reviews of rules with significant economic impacts on a substantial number of small entities and for various non-rulemaking activities, such as Federal Register documents seeking public comments on draft guidance, policy statements, information collection requests under the PRA, and other non-rule activities. Docket information should be in that action's agenda entry. All of EPA's public dockets can be located at www.regulations.gov.

4. EPA's Regulatory Development and Retrospective Review Tracker

EPA's Regulatory Development and Retrospective Review Tracker (www.epa.gov/regdarrt/) serves as a portal to EPA's priority rules, providing you with earlier and more frequently updated information about Agency regulations than is provided by the Regulatory Agenda. It also provides information about retrospective reviews of existing regulations. Not all of EPA's Regulatory Agenda entries appear on Reg DaRRT; only priority rulemakings can be found on this Web site. You can track progress on various aspects of EPA's priority rulemakings by signing up for RSS feeds from the Regulatory Development and Retrospective Review Tracker at http://yosemite.epa.gov/opei/RuleGate.nsf/content/getalerts.html?opendocument.

I. Reviews of Rules With Significant Impacts on a Substantial Number of Small Entities

Section 610 of the RFA requires that an agency review, within 10 years of promulgation, each rule that has or will have a significant economic impact on a substantial number of small entities. On October 31, 2012, EPA published in the Federal Register a notice announcing the review of three past rulemakings:

• Heavy-Duty Engine and Vehicle Standards and Highway Diesel Fuel Sulfur Control Requirements

• National Pollutant Discharge Elimination System Permit Regulation and Effluent Limitations Guidelines Standards for Concentrated Animal Feeding Operations

• Review of National Emissions Standards for Hazardous Air Pollutants (NESHAP): Reinforced Plastic Composites Production

To comment or learn more about these retrospective reviews of agency rulemakings under section 610 of the RFA, see: http://www.epa.gov/sbrefa/section-610.html.

J. What other special attention does EPA give to the impacts of rules on small businesses, small governments, and small nonprofit organizations?

For each of EPA's rulemakings, consideration is given whether there will be any adverse impact on any small entity. EPA attempts to fit the regulatory requirements, to the extent feasible, to the scale of the businesses, organizations, and governmental jurisdictions subject to the regulation.

Under RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing RFA/SBREFA, please visit the RFA/SBREFA Web site at http://www.epa.gov/sbrefa/.

K. Thank You for Collaborating With Us

Finally, we would like to thank those of you who choose to join with us in making progress on the complex issues involved in protecting human health and the environment. Collaborative efforts such as EPA's open rulemaking process are a valuable tool for addressing the problems we face, and the regulatory agenda is an important part of that process.

Dated: October 22, 2012.
Shannon Kenny,
Acting Principal Deputy Associate Administrator, Office of Policy.

10—Proposed Rule Stage
Sequence No. | Title | Regulation Identifier No.
372 | Revision of New Source Performance Standards for New Residential Wood Heaters | 2060-AP93

10—Long-Term Actions
Sequence No. | Title | Regulation Identifier No.
373 | National Emission Standards for Hazardous Air Pollutants (NESHAP) Risk and Technology Review (RTR) for the Mineral Wool and Wool Fiberglass Industries | 2060-AQ90

35—Prerule Stage
Sequence No. | Title | Regulation Identifier No.
374 | Lead; Renovation, Repair, and Painting Program for Public and Commercial Buildings | 2070-AJ56

35—Proposed Rule Stage
Sequence No. | Title | Regulation Identifier No.
375 | Formaldehyde; Third-Party Certification Framework for the Formaldehyde Standards for Composite Wood Products (Reg Plan Seq No. 84) | 2070-AJ44
376 | Formaldehyde Emissions Standards for Composite Wood Products (Reg Plan Seq No. 85) | 2070-AJ92
References in boldface appear in The Regulatory Plan in part II of this issue of the Federal Register.

60—Long-Term Actions
Sequence No. | Title | Regulation Identifier No.
377 | Financial Responsibility Requirements Under CERCLA Section 108(b) for Classes of Facilities in the Hard Rock Mining Industry | 2050-AG61

ENVIRONMENTAL PROTECTION AGENCY (EPA)

10

Proposed Rule Stage

372. Revision of New Source Performance Standards for New Residential Wood Heaters

Legal Authority: CAA sec 111(b)(1)(B)

Abstract: EPA is revising the New Source Performance Standards (NSPS) for new residential wood heaters. This action is necessary because it updates the 1988 NSPS to reflect significant advancements in wood heater technologies and design, broadens the range of residential wood-heating appliances covered by the regulation, and improves and streamlines implementation procedures. This rule is expected to require manufacturers to redesign wood heaters to be cleaner and lower emitting. In general, the design changes would also make the heaters perform better and be more efficient. The revisions are also expected to streamline the process for testing new model lines by allowing the use of International Standards Organization (ISO)-accredited laboratories and certifying bodies, which will expand the number of facilities that can be used for testing and certification of the new model lines. This action is expected to include the following new residential wood-heating appliances:

—Adjustable burn-rate wood heaters

—Pellet stoves

—Single burn-rate wood heaters

—Outdoor hydronic heaters (outdoor wood boilers)

—Indoor hydronic heaters (indoor wood boilers)

—Wood-fired, forced-air furnaces

—Masonry heaters.

These standards would apply only to new residential wood heaters and not to existing residential wood-heating appliances.

Timetable:

Action | Date | FR Cite
NPRM | 06/00/13 |
Final Rule | 03/00/14 |

Regulatory Flexibility Analysis Required: Yes.

Agency Contact: Gil Wood, Environmental Protection Agency, Air and Radiation, C404-05, Research Triangle Park, NC 27711, Phone: 919 541-5272, Fax: 919 541-0242, Email: wood.gil@epa.gov.

David Cole, Environmental Protection Agency, Air and Radiation, C404-05, Research Triangle Park, NC 27711, Phone: 919 541-5565, Fax: 919 541-0242, Email: cole.david@epa.gov.

RIN: 2060-AP93

ENVIRONMENTAL PROTECTION AGENCY (EPA)

10

Long-Term Actions

373. National Emission Standards for Hazardous Air Pollutants (NESHAP) Risk and Technology Review (RTR) for the Mineral Wool and Wool Fiberglass Industries

Legal Authority: 42 U.S.C. 7401

Abstract: The Maximum Achievable Control Technology (MACT) standard for Mineral Wool Production was promulgated on June 1, 1999, and the MACT for Wool Fiberglass Production was promulgated on June 14, 1999. The Clean Air Act requires EPA to evaluate the risk remaining to human health within eight years of promulgation of each MACT standard; for these regulations, that date expired in June 2007. Along with risk, the EPA is also required to review new technology in the industry that can reduce hazardous air pollutant (HAP) emissions from regulated sources in the industry, and may consider costs under this technology review. EPA is addressing these Clean Air Act requirements under a combined risk and technology review (RTR). EPA was petitioned to review the risk for these source categories, and also to determine MACT floors for pollutants and processes that were not regulated by the MACT standards. The court entered into an agreement with EPA and the litigants, and the resulting deadline for proposal and promulgation of these RTRs is November 4, 2011, and November 30, 2012, respectively. In addition, EPA will be preparing to regulate wool fiberglass area sources under a new NESHAP, expected to be proposed March 15, 2013.

Timetable:

Action | Date | FR Cite
NPRM | 11/25/11 | 76 FR 72770
Notice | 12/20/11 | 76 FR 78872
Notice | 01/23/12 | 77 FR 3223
Final Rule | 01/00/14 |

Regulatory Flexibility Analysis Required: Yes.

Agency Contact: Susan Fairchild, Environmental Protection Agency, Air and Radiation, D-243-04, Research Triangle Park, NC 27711, Phone: 919 541-5167, Fax: 919 541-5450, Email: fairchild.susan@epamail.epa.gov.

Keith Barnett, Environmental Protection Agency, Air and Radiation, D243-04, Research Triangle Park, NC 27711, Phone: 919 541-5605, Fax: 919 541-5450, Email: barnett.keith@epa.gov.

RIN: 2060-AQ90

ENVIRONMENTAL PROTECTION AGENCY (EPA)

35

Prerule Stage

374. Lead; Renovation, Repair, and Painting Program for Public and Commercial Buildings

Legal Authority: 15 U.S.C. 2682(c)(3)

Abstract: Section 402(c)(3) of the Toxic Substances Control Act (TSCA) requires EPA to regulate renovation or remodeling activities that create lead-based paint hazards in target housing (most pre-1978 housing), pre-1978 public buildings, and commercial buildings. In a 2008 rule, EPA addressed lead-based paint hazards created by these activities in target housing and child-occupied facilities built before 1978 (child-occupied facilities are a subset of public and commercial buildings or facilities where children under age 6 spend a great deal of time). The 2008 rule established requirements for training renovators, other renovation workers, and dust sampling technicians; for certifying renovators, dust sampling technicians, and renovation firms; for accrediting providers of renovation and dust sampling technician training; for renovation work practices; and for recordkeeping. The current rulemaking effort will address renovation or remodeling activities in the remaining buildings described in TSCA section 402(c)(3); i.e., public buildings built before 1978 and commercial buildings that are not child-occupied facilities. In 2010, EPA issued an Advanced Notice of Proposed Rulemaking (ANPRM) that solicited public comment on lead-safe work practices and other requirements EPA should consider for renovations on the exteriors of public and commercial buildings and whether lead-based paint hazards are created by interior renovation, repair, and painting projects in public and commercial buildings. EPA is currently developing a proposal to address lead-based paint hazards that may be created by renovations on the exterior or in the interiors of public and commercial buildings. As part of a settlement agreement reached in 2009 and most recently amended in September 2012, EPA will hold a public meeting in 2013 to discuss the issues under consideration for this rulemaking. In addition, after considering the information it gathers and its related analyses, EPA has agreed to either sign a proposed rule covering renovation, repair, and painting activities in public and commercial buildings, or determine that these activities do not create lead-based paint hazards by July 1, 2015. If EPA issues a proposed rule, EPA has further agreed to take final action on or before the date 18 months after the proposal is published.

Timetable:

Action | Date | FR Cite
ANPRM | 05/06/10 | 75 FR 24848
Notice (Request Information) | 01/00/13
Notice (Public Meeting) | 06/00/13
NPRM | 07/00/15

Regulatory Flexibility Analysis Required: Yes.

Agency Contact: Hans Scheifele, Environmental Protection Agency, Office of Chemical Safety and Pollution Prevention, 7404T, Washington, DC 20460, Phone: 202 564-3122, Email: scheifele.hans@epa.gov.

Cindy Wheeler, Environmental Protection Agency, Office of Chemical Safety and Pollution Prevention, 7404T, Washington, DC 20460, Phone: 202 566-0484, Email: wheeler.cindy@epa.gov.

RIN: 2070-AJ56

ENVIRONMENTAL PROTECTION AGENCY (EPA)

35

Proposed Rule Stage

375. Formaldehyde; Third-Party Certification Framework for the Formaldehyde Standards for Composite Wood Products

Regulatory Plan: This entry is Seq. No. 84 in part II of this issue of the Federal Register.

RIN: 2070-AJ44

376. Formaldehyde Emissions Standards for Composite Wood Products

Regulatory Plan: This entry is Seq. No. 85 in part II of this issue of the Federal Register.

RIN: 2070-AJ92

ENVIRONMENTAL PROTECTION AGENCY (EPA)

60

Long-Term Actions

377. Financial Responsibility Requirements Under CERCLA Section 108(b) for Classes of Facilities in the Hard Rock Mining Industry

Legal Authority: 42 U.S.C. 9601 et seq.; 42 U.S.C. 9608(b)

Abstract: Section 108(b) of the Comprehensive Environmental Response, Compensation, and Liability Act (CERCLA) of 1980, as amended, establishes certain authorities concerning financial responsibility requirements. This provision authorizes regulation to require business operators to have some financial mechanisms in place—such as a bond or insurance policy—that can provide funds to clean or avert spills of hazardous substances without burdening taxpayers. The Agency has identified classes of facilities within the Hard Rock mining industry as those for which financial responsibility requirements will be first developed. EPA intends to include requirements for financial responsibility, as well as notification and implementation.

Timetable:

Action | Date | FR Cite
Notice | 07/28/09 | 74 FR 37213
NPRM | 05/00/14

Regulatory Flexibility Analysis Required: Yes.

Agency Contact: Ben Lesser, Environmental Protection Agency, Solid Waste and Emergency Response, 5302P, Washington, DC 20460, Phone: 703 308-0314, Email: lesser.ben@epa.gov.

David Hockey, Environmental Protection Agency, Solid Waste and Emergency Response, 5303P, Washington, DC 20460, Phone: 703 308-8846, Email: hockey.david@epa.gov.

RIN: 2050-AG61

[FR Doc. 2012-31502 Filed 1-7-13; 8:45 am]

BILLING CODE 6560-50-P